DEPARTMENT OF HEALTH AND HUMAN SERVICES

Centers for Disease Control and Prevention

[Program Announcement 01029]

Notice of Availability of Funds for the Public Health Foundation To Improve the Nation's Public Health Infrastructure Through Applied Research, Training, and Technical Assistance

A. Purpose

The Centers for Disease Control and Prevention (CDC) announces the availability of fiscal year (FY) 2001 funds for a cooperative agreement program entitled “Improving the Nation's Public Health Infrastructure.” This program addresses the “Healthy People 2010” priority focus area of Public Health Infrastructure. For a copy of “Healthy People 2010,” visit the web site— http://www.health.gov/healthypeople.

The purpose of this cooperative agreement program is to improve the Nation's public health infrastructure and improve the performance of public health agencies by:

1. Developing and/or implementing strategies to encourage the development and use of standards for public health organizations, the public health workforce, and public health information systems;

2. Developing and/or implementing strategies to inform the public health community about effective approaches to improving public health organizations, the public health workforce, and public health information systems; and

3. Conducting activities to encourage the public health community to implement the most effective approaches to improving public health organizations, the public health workforce, and public health information systems.

B. Eligible Applicants

Assistance will be provided only to the Public Health Foundation (PHF) . No other applications are solicited. PHF is uniquely qualified to be the recipient organization for the following reason:

PHF previously completed the Community Health Status Indicators Project, in which it is the only organization that has access to the 10 years of disaggregated data used to develop the project. Using this disaggregated data from the Community Health Status Indicators reports and other relevant sources, only PHF will be able to conduct and/or publish continued applied research to strengthen the science base of public health practice with this critical project. This is the most important requirement of this cooperative agreement.

Note: Public Law 104-65 states that an organization, described in section 501(c) (4) of the Internal Revenue Code of 1986, that engages in lobbying activities is not eligible to receive Federal funds constituting an award, grant, cooperative agreement, contract, loan, or any other form.

C. Availability of Funds

Approximately $200,000 is available in FY 2001 to fund this award. It is expected that the award will begin on or about June 1, 2001, and will be made for a 12-month budget period within a project period of up to five years. Funding estimates may change.

Continuation awards within an approved project period will be made on the basis of satisfactory progress as evidenced by required reports and the availability of funds. During the first year, funds are expected to be available to support the projects/activities listed in Part D.1. below as follows:

1. Core Activities $ 50,000

2. Special Projects 1, 2, 6, 7, and 8 $150,000

Use of Funds

Funds may be spent for reasonable program purposes, including personnel, travel, supplies, and services. Equipment may be purchased, with appropriate justification, including cost comparison of purchase with lease. Although contracts with other organizations are allowable, the recipient must perform a substantial portion of activities for which funds are requested. Cooperative agreement funds may not supplant existing funds from any other public or private source. Funds may not be expended for construction, renovation of existing facilities, or relocation of headquarters, affiliates, or personnel.

D. Program Requirements

In conducting activities to achieve the purpose of this program, the recipient will be responsible for the activities listed under 1. (Recipient Activities) , and CDC will be responsible for the activities listed under 2. (CDC Activities) .

1. Recipient Activities

Recipients may undertake the following types of activities:

A. Core Activities

(1) Develop and maintain an effective governance structure within the organization that provides for effective leadership and day-to-day fiscal and operational management by competent full-time management staff.

(2) Conduct regular and ongoing assessments of the organization and its progress toward meeting its strategic and operational goals and regularly communicate regarding progress toward meeting those goals and objectives.

(3) Establish and maintain an effective information and communication system within its headquarters, which:

(a) Is accessible to its constituents and staff through a continuous, high-speed Internet connection;

(b) Facilitates electronic exchange of computer-generated documents among organization staff, its constituents, and local, tribal, state, and federal public health officials;

(c) Facilitates confidential twenty-four/seven email exchange among local, tribal, state, and federal public health officials; and

(d) Provides twenty-four/seven public access to a website that contains current and relevant public health information, tools, and access to training programs.

(4) Ensure the implementation and periodic assessment of an organization-wide communication plan which supports the ongoing efforts of the organization to communicate with its constituents.

(5) Ensure the highest organizational standards of professional competency, advocacy, recognition and visibility, knowledge source, and inclusive membership are maintained.

B. Special Projects

(1) Collaborate with CDC and other public health partners to refine, field-test, and encourage the use of public health system Performance Standards, and develop and/or improve their capacity to utilize information from that system to influence public health policy decisions at the local, tribal, state, and federal level, including (but not limited to) developing, field-testing, and finalizing a verification process and protocols for improving the validity, reliability, and comparability of the data reported by the demonstration sites participating in the National Public Health Performance Standards Program (NPHPSP) .

(2) Ensure implementation of public health system Performance Standards to support the Essential Public Health Services #4-inform, educate, and empower people about health issues-by encouraging collaboration and communication among public health systems throughout the Nation, including (but not limited to) publicizing the NPHPSP and state performance management systems and their relationship to the national program to public health policy-makers, practitioners, and other stakeholders.

(3) Collaborate with CDC and other public health and non-traditional partners to improve the competency of the public health workforce, including (but not limited to) elements outlined in a global and national implementation plan for public health workforce development. These elements include: monitoring workforce composition, identifying competencies and developing related curricula, designing an integrated learning delivery system, identifying incentives to assure competency, and conducting evaluation and research in workforce issues.

(4) Collaborate with CDC and other public health partners to improve public health information and communication systems, including (but not limited to) the development and/or implementation of standards for public health data and information systems, the development and dissemination of information supporting the need and the mechanisms for engaging in the standards development process, and/or improvement of the capacity of public health agencies to quickly receive and transmit information regarding chemical or biological terrorism events or other urgent public health threats.

(5) Convene key public health system officials to review/modify priorities for improving the performance of public health organizations, the public health workforce, and/or public health information and communication systems.

(6) Collaborate with CDC and other public health partners to improve the Nation's community public health assessment and planning systems, including (but not limited to) encouraging, providing assistance to, and collaborating in the development, refinement, and use of available community public health improvement tools, and translating public health data for use by public health policy-makers and practitioners with their communities in collaboration with the Health Resources and Services Administration (HRSA) Community Health Status Indicators project.

(7) Collaborate with CDC and other public health partners to provide technical assistance to public health agencies and communities for assessing public health needs, identifying public health assets, developing benchmarks, establishing health improvement plans, and improving the health of communities, building upon the 10 years of disaggregated data used in developing the Community Health Status Indicators reports.

(8) Using the 10 years of disaggregated data from the Community Health Status Indicators reports and other relevant sources, collaborate with CDC and other public health partners to conduct and/or publish research to strengthen the science base of public health practice, including (but not limited to) the following:

(a) Identifying the most effective organizational components of public health systems;

(b) Determining the extent to which public health practitioners have access to current information about Performance Standards programs and determine the most effective means of improving access to that information;

(c) Ensuring the reliability and validity of the Performance Standards monitoring tool;

(d) Analyzing the results of Performance Standards monitoring; and

(e) Evaluating the impact of project activities on the performance of public health organizations, the public health workforce, and/or public health information and communication systems.

(9) Collaborate with CDC to improve the development of environmental and occupational public health policy, improve the competency of environmental and occupational public health workers, and broaden and improve the practice of environmental and occupational public health.

(10) Collaborate with CDC to improve the capacity of public health systems to effectively respond to chemical and/or biological terrorism, including collaborating with other response agencies to protect the public and exposed workers.

(11) Collaborate with CDC to improve the understanding and use of law by public health systems as a tool for effective public health practice, including (but not limited to) the following:

(a) Developing and/or conducting public health law training;

(b) Conducting applied research in public health law and;

(c) Developing and/or disseminating information about public health laws relevant to local public health agencies and systems.

2. CDC Activities

A. Core Activities

(1) Collaborate with funded organization(s), as appropriate, in assessing progress toward meeting strategic and operational goals and objectives.

(2) Collaborate with funded organization(s), as appropriate, in the development and maintenance of information and communication systems.

B. Special Projects

(1) Collaborate with funded organization(s) to further refine, field-test, and encourage the use of public health system Performance Standards, and develop and/or improve the capacity to utilize information from that system to influence public health policy decisions at the local, tribal, state, and federal level.

(2) Collaborate with funded organization(s) to ensure implementation of public health system Performance Standards to support the Essential Public Health Services #4.

(3) Collaborate with funded organization(s) to improve the competency of the public health workforce.

(4) Collaborate with funded organization(s) to improve public health information and communication systems.

(5) Collaborate with funded organization(s) to identify key public health officials to review/modify priorities for improving the performance of public health organizations, the public health workforce, and/or public health information and communication systems.

(6) Collaborate with funded organization(s) to improve the Nation's community public health assessment and planning systems.

(7) Collaborate with funded organization(s) to provide technical assistance to public health agencies and communities.

(8) Collaborate with funded organization(s) to conduct and/or publish research to strengthen the science base of public health practice.

(9) Collaborate with funded organization(s) to improve the development of environmental and occupational public health policy, improve the competency of environmental and occupational public health workers, and broaden and improve the practice of environmental and occupational public health.

(10) Collaborate with funded organization(s) to improve the capacity of public health systems to effectively respond to chemical and/or biological terrorism, including collaborating with other response agencies to protect the public and exposed workers.

(11) Collaborate with funded organization(s) to improve the understanding and use of law by public health systems as a tool for effective public health practice.

E. Application Content

The application must be developed in accordance with PHS 5161-1 (Revised 7/92, OMB Number 0937-0189) and must contain a narrative description of each proposed project, which must include:

1. A statement of the problem(s) to be addressed and how each of the proposed projects will impact on the problem(s) , including how they will help “Improve the Nation's Public Health Infrastructure and Improve the Performance of Public Health Agencies.”

2. A clear and concise description of project objectives and the approach(es) to be used in achieving project objectives, to be provided in one application but separately for each core and special project, along with evidence of the applicant's ability to provide the staff, knowledge, and other resources to achieve those objectives, including descriptions of the names and qualifications of professional staff to be assigned to each project and the facilities, space, and equipment available for each project.

3. A separate description of the activities to be undertaken in carrying out each project, a proposed schedule for accomplishing those activities, a description of the responsibilities of proposed staff in accomplishing those activities (including an estimate of time allocations for project staff) , and a detailed budget which specifies anticipated costs for conducting each of the project activities.

4. Budget information should be submitted for each separate project. The SF 424A used for this budget information should include separate columns for each project. Multiple SF 424A forms are encouraged.

The narrative should be no more than 30 single-spaced pages (not including appendices for items such as curricula vitae, letters of support, and other similar supporting information). The narrative should be printed on one side, with one-inch margins, and a font size of no less than 12 point, on white 8.5×11 paper. All pages should be clearly numbered, and a complete Table of Contents for the application and its appendices must be included. The required original application and two full copies must be submitted unstapled and unbound (including materials in the appendices), in order to allow the entire application to run through an automatic document feed copier.

F. Submission and Deadline

Applicants must submit an original and two copies of PHS 5161-1 (OMB Number 0937-0189). Forms are available at the following Internet address: http://www.cdc.gov/od/pgo/funding/funding.htm, or in the application kit.

On or before May 1, 2001, submit the application to the Grants Management Specialist identified in the “Where to Obtain Additional Information” section of this announcement.

Deadline: Applications shall be considered as meeting the deadline if they are either:

1. Received on or before the deadline date; or

2. Sent on or before the deadline date and received in time for submission to the independent review group.

(Applicants must request a legibly-dated U.S. Postal Service postmark or obtain a legibly-dated receipt from a commercial carrier or the U.S. Postal Service. Private-metered postmarks shall not be acceptable as proof of timely mailing.)

Late Applications: Applications which do not meet the criteria in 1. or 2. above are considered late applications, will not be considered, and will be returned to the applicant.

G. Evaluation Criteria

The application will be reviewed and evaluated by a CDC-convened objective review panel, based on the adequacy of the proposal relative to the following criteria:

Purpose of Project (30 Points)

Applicant's understanding of each project's purpose/problem to be addressed and relationship to purpose of cooperative agreement.

Project Objectives, Activities, and Implementation Plan (40 points)

Specificity, measurability, and feasibility of objectives and proposed activities, including a schedule for implementing proposed activities, a description of the responsibilities and time allocations of proposed staff in accomplishing those activities, and a plan for collaborating with CDC and other relevant public health and/or healthcare organizations in conducting each project.

Evaluation (10 Points)

Appropriateness of the methods to be used to monitor the implementation of proposed activities, measure the achievement of project objectives, and evaluate the impact of each project.

Organizational Qualifications and Experience (20 Points)

Evidence of applicant's ability to provide staff, facilities, space, equipment, and financial/other resources required to accomplish the goals and objectives of each project, including descriptions of the names and qualifications of professional staff to be assigned to each project and the facilities, space, and equipment available for each project.

Budget Justification (not scored)

Extent to which the budget is reasonable, clearly justified, and consistent with the intended use of cooperative agreement funds.

H. Other Requirements

Technical Reporting Requirements

Applicant must provide CDC with an original plus two copies of:

1. Semi-annual progress reports, at the end of the second and fourth quarters of each budget period, no later than 30 days after the end of each of those quarters (a cumulative progress report for the first three quarters of each budget period will be prepared as part of the annual application for continuation funding during the project period).

2. Annual Financial Status Reports, no later than 90 days after the end of each budget period.

3. Final financial status and progress reports, no later than 90 days after the end of the project period.

The following additional requirements are applicable to this program. For a complete description of each, see Attachment 1 in the application kit.

AR-9 Paperwork Reduction Act Requirements

AR-10 Smoke-Free Workplace Requirements

AR-11 Healthy People 2010

AR-12 Lobbying Restrictions

I. Authority and Catalog of Federal Domestic Assistance Number

This program is authorized under Section 317(k) (2) of the Public Health Service Act, 42 U.S.C. 247b(k) (2) as amended. The Catalog of Federal Domestic Assistance number is 93.283.

J. Where to Obtain Additional Information

This and other CDC announcements can be found on the CDC web site at http://www.cdc.gov. On CDC's homepage below the “Spotlights”, click on “Funding Opportunities”, then on “Grants and Cooperative Agreements”.

To obtain additional business management information, contact: Juanita D. Crowder, Grants Management Specialist, Grants Management Branch, Procurement and Grants Office, Centers for Disease Control and Prevention, 2920 Brandywine Road, Room 3000, Atlanta, GA 30341-4146, Telephone number: 770-488-2734, E-Mail Address: jcrowder@cdc.gov.

To obtain additional programmatic information, contact: Susan J. Shaw, Division of Public Health Systems Development and Research, Public Health Practice Program Office, Centers for Disease Control and Prevention, 4770 Buford Highway, N.E. (MailStop K-37), Atlanta, GA 30341-3717, Telephone: 770-488-2482, E-Mail: sshaw@cdc.gov.

Dated: March 28, 2001.
John L. Williams,
Director, Procurement and Grants Office, Centers for Disease Control and Prevention.

[FR Doc. 01-8094 Filed 4-2-01; 8:45 am]

BILLING CODE 4163-18-P